DEPARTMENT OF ENERGY

Federal Energy Regulatory Commission

[Docket No.CP00-6-014]

Gulfstream Natural Gas System L.L.C.; Notice of Application

August 22, 2006.

On August 15, 2006, Gulfstream Natural Gas System L.L.C. (GNGS), pursuant to section 7(c) of the Natural Gas Act, as amended, and section 157 of the Federal Energy Regulatory Commission's (Commission) regulations, filed to amend their currently certificated Phase III facilities to include 34.3 miles of a 30-inch pipeline extending from the existing GNGS mainline in Martin County to the proposed West County Energy Center in Palm Beach County, Florida. The pipeline extension would transport up to 345,000 Dth/d of natural gas for the 2,200 Mw of electric generating facilities proposed at the Energy Center. GNGS requests that currently-approved initial recourse rates be modified to reflect cost estimates to construct the amended Phase III facilities. GNGS asks the Commission to grant the requested certificate amendment by June 1, 2007 to ensure that the modified Phase III facilities can meet the timing and economic assurance needs of the Project's anchor shipper.

Questions concerning the application should be directed to: P. Martin Teague, Associate General Counsel, Gulfstream Natural Gas System, L.L.C., 5400 Westheimer Court, P.O. Box 1642, Houston, Texas 77251-1642 or telephonically at (713) 627-5242.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding. However, a person does not have to intervene in order to have comments considered.

The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper. See 18 CFR 385.2001(a)(1)(iii) and the instructions on the Commission's Web site under the “e-Filing” link at http://www.ferc.gov. The Commission strongly encourages intervenors to file electronically. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on September 11, 2006.

Magalie R. Salas,
Secretary.

[FR Doc. E6-14387 Filed 8-29-06; 8:45 am]

BILLING CODE 6717-01-P